DEPARTMENT OF THE INTERIOR

Bureau of Indian Affairs

Proclaiming Certain Lands as Reservation for the Fort Sill Apache Indian Tribe

AGENCY: Bureau of Indian Affairs, Interior.

ACTION: Notice of Reservation Proclamation.

SUMMARY: This notice informs the public that the Assistant Secretary—Indian Affairs proclaimed approximately 30.00 acres, more or less, as the Fort Sill Apache Indian Reservation for the Fort Sill Apache Tribe of Indians.

FOR FURTHER INFORMATION CONTACT: Ben Burshia, Bureau of Indian Affairs, Division of Real Estate Services, Mail Stop-4639-MIB, 1849 C Street NW., Washington, DC 20240, telephone (202) 208-7737.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 467), for the land described below. The land was proclaimed to be an addition to and part of the reservation of the Fort Sill Apache Indian Reservation for the exclusive use of Indians entitled by enrollment or by tribal membership to residence at such reservation.

New Mexico Principal Meridian

Luna County, New Mexico

That part of the North half (N1/2) of Section Eleven (11), lying north of the Interstate 10 right-of-way, Township Twenty-four (24) south, Range Six (6) west, N.M.P.M., Luna County, New Mexico, being described as follows:

BEGINNING at a spike in the center of an abandoned asphalt roadway at the Northeast corner of said Section 11 and Northeast corner of this tract:

Thence S. 0°21′53″ W., along the east line of Section 11, a distance of 500.76 feet to a No. 5 steel rod at the Southeast corner of this tract and on the North boundary of the Interstate 10 right-of-way;

Thence adjoining the North boundary of said I-10 right-of-way through the following courses and distances; along a curve to the left from a tangent which bears N. 89°56′18″ W., having a radius of 789.30 feet, a delta angle of 32°47′40″, a chord which bears S. 73°39′52″ W., 445.63 feet through an arc length of 451.77 feet to I-10 P.C. marker 10+30.62;

Thence S. 57°12′44″ W., a distance of 231.01 feet to I-10 P.T. marker 8+00;

Thence along a curve to the right from a tangent which bears S. 57°16′8″ W., having a radius of 1096.00 feet, a delta angle of 39°58′50″, a chord which bears S. 77°15′43″ W., 749.36 feet, through an arc length of 764.78 feet to I-10 P.C. marker 45+11.53;

Thence N. 82°45′27″ W., a distance of 340.58 feet to a No. 5 steel rod at the Southwest corner of this tract;

Thence N. 0°21′53″ E., along a line parallel with the east line of Section 11, a distance of 871.49 feet to a No. 5 steel rod at the Northwest corner of this tract;

Thence N. 89°55′55″ E., along the North line of Section 11, a distance of 1688.27 feet to the point of beginning.

The above-described lands contain a total of 30.00 acres, more or less, which is subject to all valid rights, reservations, rights-of-way, and easements of record.

This proclamation does not affect title to the land described above, nor does it affect any valid existing easements for public roads and highways, public utilities and for railroads and pipelines and any other rights-of-way or reservations of record.

Dated: November 16, 2011.
Larry Echo Hawk,
Assistant Secretary—Indian Affairs.

[FR Doc. 2011-30576 Filed 11-25-11; 8:45 am]

BILLING CODE 4310-W7-P